DEPARTMENT OF COMMERCE

International Trade Administration

[A-489-815]

Light-Walled Rectangular Pipe and Tube From Turkey: Preliminary Results of Antidumping Duty Administrative Review; 2015-2016

AGENCY: Enforcement and Compliance, International Trade Administration, Commerce.

SUMMARY: The Department of Commerce (the Department) is conducting an administrative review of the antidumping duty order on light-walled rectuangular pipe and tube (LWRPT) from Turkey. The period of review (POR) is May 1, 2015, through April 30, 2016. This administrative review covers nine exporters of the subject merchandise, including two mandatory respondents, Cinar Boru Profil Sanayi ve Ticaret A.S. (CINAR) and Noksel Celik Boru Sanayi A.S. (Noksel). The Department preliminarily determines that CINAR and Noksel made sales of subject merchandise at less than normal value during the POR. Interested parties are invited to comment on these preliminary results.

DATES: Effective June 6, 2017.

FOR FURTHER INFORMATION CONTACT: Jonathan Hill or Patrick O'Connor, AD/CVD Operations, Office IV, Enforcement and Compliance, International Trade Administration, U.S. Department of Commerce, 1401 Constitution Avenue NW., Washington, DC 20230; telephone: (202) 482-3518 or (202) 482-0989, respectively.

SUPPLEMENTARY INFORMATION:

Scope of the Order

The merchandise covered by the antidumping order is certain welded carbon quality light-walled steel pipe and tube, of rectangular (including square) cross section, having a wall thickness of less than 4 millimeters from Turkey. The merchandise subject to the order is classified in the Harmonized Tariff Schedule of the United States at subheadings 7306.61.50.00 and 7306.61.70.60. For a full description of the scope of the order, see Preliminary Decision Memorandum.¹

¹ See Memorandum from Gary Taverman, Deputy Assistant Secretary for Antidumping and Countervailing Duty Operations to Ronald K. Lorentzen, Acting Assistant Secretary for Enforcement and Compliance “Light-Walled Rectangular Pipe and Tube from Turkey: Decision Memorandum for the Preliminary Results of Antidumping Duty Administrative Review; 2015-2016,” dated concurrently with, and hereby incorporated by reference (Preliminary Decision Memorandum).

Methodology

The Department is conducting this review in accordance with section 751(a) of the Tariff Act of 1930, as amended (the Act). Export price and constructed export price are calculated in accordance with section 772 of the Act. Normal value is calculated in accordance with section 773 of the Act. For a full description of the methodology underlying our conclusions, see the Preliminary Decision Memorandum.² Further, a list of the topics discussed in the Preliminary Decision Memoradum is attached as an appendix to this notice. The Preliminary Decision Memorandum is a public document and is on file electronically via Enforcement and Compliance's Antidumping and Countervailing Duty Centralized Electronic Service System (ACCESS). ACCESS is available to registered users at http://iaaccess.trade.gov and is available to all parties in the Central Records Unit, Room B8024 of the main Department of Commerce building. In addition, a complete version of the Preliminary Decision Memorandum can be accessed directly at http://enforcement.trade.gov/frn/. The signed Preliminary Decision Memorandum and the electronic versions of the Preliminary Decision Memorandum are identical in content.

² See Preliminary Decision Memorandum.

Preliminary Results of Review

The Department preliminarily determines that weighted-average dumping margins exist for the respondents for the period May 1, 2015, through April 30, 2016, as follows:

Manufacturer/exporter | Weighted- average margin (percent)
Cinar Boru Profil Sanayi ve Ticaret A.S | 4.00
Noksel Celik Boru Sanayi A.S | 5.05
Toscelik Profil ve Sac Endustrisi A.S | 4.87
Toscelik Metal Ticaret A.S | 4.87
Tosyali Dis Ticaret A.S | 4.87
Yucel Boru ve Profil Endustrisi A.S | 4.87
Yucelboru Ihracat Ithalat ve Pazarlama A.S | 4.87
Cayirova Boru Sanayi ve Ticaret A.S | 4.87
Agir Haddecilik A.S | 4.87

For the rate for non-selected respondents in an administrative review, generally, the Department looks to section 735(c)(5) of the Act, which provides instructions for calculating the all-others rate in a market economy investigation. Under section 735(c)(5)(A) of the Act, the all-others rate is normally “an amount equal to the weighted-average of the estimated weighted-average dumping margins established for exporters and producers individually investigated, excluding any zero or de minimis margins, and any margins determined entirely {on the basis of facts available}.” With two respondents, we normally calculate (A) a weighted-average of the dumping margins calculated for the mandatory respondents; (B) a simple average of the dumping margins calculated for the mandatory respondents; and (C) a weighted-average of the dumping margins calculated for the mandatory respondents using each company's publicly-ranged values for the merchandise under consideration. We compare (B) and (C) to (A) and select the rate closest to (A) as the most appropriate rate for all other companies.³ Accordingly, we have applied a rate of 4.87 percent to the non-selected companies, as set forth in the chart above.⁴

³ See Ball Bearings and Parts Thereof from France, Germany, Italy, Japan, and the United Kingdom: Final Results of Antidumping Duty Administrative Reviews, Final Results of Changed-Circumstances Review, and Revocation of an Order in Part, 75 FR 53661, 53663 (September 1, 2010).

⁴ See Memorandum from Jonathan Hill, International Trade Compliance Analyst, AD/CVD Operations, Office IV, Enforcement and Compliance to the File, “Calculation of the Rate for Non-Selected Respondents,” dated May 31, 2017.

Assessment Rates

Upon completion of the administrative review, the Department shall determine, and CBP shall assess, antidumping duties on all appropriate entries. The Department intends to issue assessment instructions to CBP 15 days after the date of publication of the final results of this review.

For any individually examined respondents whose weighted-average dumping margin is above de minimis (i.e., 0.50 percent), we will calculate importer-specific ad valorem duty assessment rates based on the ratio of the total amount of dumping calculated for the importer's examined sales to the total entered value of those same sales in accordance with 19 CFR 351.212(b)(1).⁵ For entries of subject merchandise during the POR produced by each respondent for which it did not know its merchandise was destined for the United States, we will instruct CBP to liquidate unreviewed entries at the all-others rate if there is no rate for the intermediate company involved in the transaction.⁶ We will instruct CBP to assess antidumping duties on all appropriate entries covered by this review when the importer-specific assessment rate calculated in the final results of this review is above de minimis. Where either the respondent's weighted-average dumping margin is zero or de minimis, or an importer-specific assessment rate is zero or de minimis, we will instruct CBP to liquidate the appropriate entries without regard to antidumping duties.

⁵ In these preliminary results, the Department applied the assessment rate calculation methodology adopted in Antidumping Proceedings: Calculation of the Weighted-Average Dumping Margin and Assessment Rate in Certain Antidumping Proceedings: Final Modification, 77 FR 8101 (February 14, 2012).

⁶ See Antidumping and Countervailing Duty Proceedings: Assessment of Antidumping Duties, 68 FR 23954 (May 6, 2003).

The final results of this review shall be the basis for the assessment of antidumping duties on entries of merchandise covered by the final results of this review and for future deposits of estimated duties, where applicable.

Cash Deposit Requirements

The following cash deposit requirements will be effective upon publication of the notice of final results of administrative review for all shipments of LWRPT from Turkey entered, or withdrawn from warehouse, for consumption on or after the date of publication of the final results of this administrative review, as provided for by section 751(a)(2)(C) of the Act: (1) The cash deposit rate for the companies under review will be equal to the weighted-average dumping margin established in the final results of this review (except, if the rate is zero or de minimis, no cash deposit will be required); (2) for merchandise exported by manufacturers or exporters not covered in this review but covered in a prior segment of the proceeding, the cash deposit rate will continue to be the company-specific rate published for the most recently completed segment of this proceeding in which the manufacturer or exporter participated; (3) if the exporter is not a firm covered in this review, a prior review, or the less-than-fair-value investigation, but the manufacturer is, the cash deposit rate will be the rate established for the most recently completed segment of the proceeding for the manufacturer of the merchandise; and (4) the cash deposit rate for all other manufacturers or exporters will continue to be 27.04 percent ad valorem, the all-others rate established in the less-than-fair-value investigation.⁷ These cash deposit requirements, when imposed, shall remain in effect until further notice.

⁷ See Notice of Final Determination of Sales at Less Than Fair Value: Light-Walled Rectangular Pipe and Tube from Turkey, 73 FR 19814 (April 11, 2008).

Disclosure and Public Comment

The Department intends to disclose the calculations used in our analysis to interested parties in this review within five days of the date of publication of this notice in accordance with 19 CFR 351.224(b). Interested parties are invited to comment on the preliminary results of this review. Pursuant to 19 CFR 351.309(c)(1)(ii), interested parties may submit case briefs no later than 30 days after the date of publication of this notice. Rebuttal briefs, limited to issues raised in the case briefs, may be filed no later than five days after the time limit for filing case briefs.⁸ Parties who submit case briefs or rebuttal briefs in this proceeding are requested to submit with each brief: (1) A statement of the issue, (2) a brief summary of the argument, and (3) a table of authorities.⁹ Executive summaries should be limited to five pages total, including footnotes.¹⁰ Case and rebuttal briefs should be filed using ACCESS.¹¹

⁸ See 19 CFR 351.309(d)(1).

⁹ See 19 CFR 351.309(c)(2) and (d)(2).

¹⁰ Id.

¹¹ See 19 CFR 351.303.

Pursuant to 19 CFR 351.310(c), any interested party may request a hearing within 30 days of the publication of this notice in the Federal Register. If a hearing is requested, the Department will notify interested parties of the hearing schedule. Interested parties who wish to request a hearing, or to participate if one is requested, must submit a written request to the Assistant Secretary for Enforcement and Compliance, filed electronically via ACCESS within 30 days after the date of publication of this notice. Requests should contain: (1) The party's name, address, and telephone number; (2) the number of participants; and (3) a list of the issues to be discussed. Issues raised in the hearing will be limited to those raised in the respective case and rebuttal briefs.

We intend to issue the final results of this administrative review, including the results of our analysis of issues raised by the parties in the written comments, within 120 days of publication of these preliminary results in the Federal Register, unless otherwise extended.¹²

¹² See section 751(a)(3)(A) of the Act and 19 CFR 351.213(h)(1).

Notification to Importers

This notice also serves as a preliminary reminder to importers of their responsibility under 19 CFR 351.402(f) to file a certificate regarding the reimbursement of antidumping duties prior to liquidation of the relevant entries during this review period. Failure to comply with this requirement could result in the Department's presumption that reimbursement of antidumping duties occurred and the subsequent assessment of double antidumping duties.

These preliminary results of administrative review are issued and published in accordance with sections 751(a)(1) and 777(i)(1) of the Act and 19 CFR 351.213(h)(1).

Dated: May 31, 2017.
Ronald K. Lorentzen,
Acting Assistant Secretary for Enforcement and Compliance.

Appendix—List of Topics Discussed in the Preliminary Decision Memorandum

I. Summary

II. Background

III. Scope of the Order

IV. Selection of Respondents

V. Preliminary Determination of No Shipments

VI. Affiliation

VII. Respondents Not Selected for Individual Examination

VIII. Allegation of Duty Evasion

IX. Use of Partial Adverse Facts Available

X. Discussion of the Methodology

a. Comparison to Normal Value

i. Determination of a Comaparison Methodology

ii. Results of Differential Pricing

b. Product Comparisons

c. Date of Sale

d. Export Price

e. Duty Drawback

f. Normal Value

i. Home Market Viability

ii. Affiliated-Party Transactions and Arm's Length Test

iii. Level of Trade

g. Cost of Production Analysis

i. Calculation of Cost of Production

ii. Test of Comparison Market Prices

iii. Results of Cost of Production Test

h. Calculation of a Normal Value on Comparison-Market Prices

i. Currency Conversion

XI. Conclusion

[FR Doc. 2017-11667 Filed 6-5-17; 8:45 am]

BILLING CODE 3510-DS-P